INTERNATIONAL TRADE COMMISSION

[Inv. Nos. 701-TA-573-574 and 731-TA-1350, 1351, 1354, 1355, and 1358 (Final)]

Carbon and Certain Alloy Steel Wire Rod From Italy, Korea, Spain, Turkey, and the United Kingdom; Supplemental Schedule for the Subject Investigations

AGENCY: United States International Trade Commission.

ACTION: Notice.

DATES: March 28, 2018.

FOR FURTHER INFORMATION CONTACT: Douglas Corkran (202-205-3057), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 5, 2017, the Commission established a general schedule for the conduct of the final phase of its investigations on carbon and certain alloy steel wire rod,¹ following preliminary determinations by the U.S. Department of Commerce (“Commerce”) that imports of the subject wire rod were subsidized by the governments of Italy and Turkey. To date, Commerce has issued final affirmative determinations with respect to the subject wire rod from {1} Belarus, the Russian Federation, and the United Arab Emirates,² {2} South Africa ³ and Ukraine ⁴ and, most recently, {3} Italy, Korea, Spain, Turkey, and the United Kingdom.⁵ The Commission, therefore, is issuing a supplemental schedule for its investigations on imports of carbon and certain alloy steel wire rod from Italy, Korea, Spain, Turkey, and the United Kingdom.

¹ Wire Rod From Belarus, Italy, Korea, Russia, South Africa, Spain, Turkey, Ukraine, the United Arab Emirates, and the United Kingdom; Scheduling of the Final Phase of Countervailing Duty and Antidumping Duty Investigations, 82 FR 44001, September 20, 2017.

² Certain Carbon and Alloy Steel Wire Rod From Belarus, the Russian Federation, and the United Arab Emirates: Affirmative Final Determinations of Sales at Less Than Fair Value and Partial Affirmative Finding of Critical Circumstances, 82 FR 56214, November 28, 2017.

³ Carbon and Alloy Steel Wire Rod From the Republic of South Africa: Affirmative Final Determination of Sales at Less Than Fair Value and Affirmative Finding of Critical Circumstances, 83 FR 2141, January 16, 2018.

⁴ Carbon and Alloy Steel Wire Rod From Ukraine: Affirmative Final Determination of Sales at Less Than Fair Value, 83 FR 2135, January 16, 2018.

⁵ See generally 83 FR 13228-13254, March 28, 2018 (Commerce's final affirmative determinations of sales at less than fair value of carbon and alloy steel wire rod from Italy, Korea, Spain, Turkey, and the United Kingdom, and Commerce's final affirmative determinations regarding countervailable subsidies by the governments of Italy and Turkey).

The Commission's supplemental schedule is as follows: The deadline for filing supplemental party comments on Commerce's final determinations is April 13, 2018. The staff report in the final phase of these investigations will be placed in the nonpublic record and a public version will be issued thereafter.

Supplemental party comments may address only Commerce's final determinations regarding imports of carbon and certain alloy steel wire rod from Italy, Korea, Spain, Turkey, and the United Kingdom. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: April 11, 2018.
Lisa Barton,
Secretary to the Commission.

[FR Doc. 2018-07890 Filed 4-13-18; 8:45 am]

BILLING CODE 7020-02-P